DEPARTMENT OF DEFENSE

Department of the Air Force

[Docket ID USAF-2009-0054]

Privacy Act of 1974; System of Records

AGENCY: Department of the Air Force, DoD.

ACTION: Notice to amend four systems of records.

SUMMARY: The Department of the Air Force proposes to amend four systems of records to its inventory of record systems subject to the Privacy Act of 1974 (5 U.S.C. 552a), as amended.

DATES: The changes will be effective on September 8, 2009 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Mr. Ben Swilley at (703) 696-6648.

SUPPLEMENTARY INFORMATION: The Department of the Air Force systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: July 28, 2009.
Patricia L. Toppings,
OSD Federal Register Liaison Officer, Department of Defense.

F031 AF SP C

SYSTEM NAME:

Complaint/Incident Reports (June 11, 1997, 62 FR 31793).

CHANGES:

Change System ID to “F031 AF SF C”.

* * * * *

CATEGORIES OF RECORDS IN THE SYSTEM:

Delete entry and replace with “Includes the incident or complaint report, statements by the subject or witness which includes their name, Social Security Number (SSN), status/grade, date and place of birth, local and permanent address, home phone, and their sponsor's name and social security number (SSN); information on seized or acquired property, if applicable, copies of forms referring cases to other agencies for final disposition, and other forms or reports required to complete basic report. Also includes an individual incident reference record.”

* * * * *

AUTHORITY FOR MAINTENANCE OF THE SYSTEM:

Delete entry and replace with “10 U.S.C. 8013, Secretary of the Air Force and Air Force Manual 31-201, Volume 7, Security Forces Administration and Reports.”

* * * * *

SYSTEM MANAGER(S) AND ADDRESS:

Delete entry and replace with “Headquarters, Air Force Security Forces Center, 1517 Billy Mitchell Boulevard, Lackland Air Force Base, Texas 78236-0119. Official mailing addresses are published as an appendix to the Air Force's compilation of record systems notices.”

NOTIFICATION PROCEDURE:

Delete entry and replace with “Individuals seeking to determine whether this system of records contains information on themselves should address inquiries to the Headquarters, Air Force Security Forces Center, 1517 Billy Mitchell Boulevard, Lackland Air Force Base, Texas 78236-0119.

When requesting information in writing, individual should include full name, Social Security Number (SSN), military status, and home address. For a personal visit, individual must have a military ID, if applicable, a valid driver's license, or other appropriate proof of identity.”

RECORD ACCESS PROCEDURES:

Delete entry and replace with “Individuals seeking to access records about themselves contained in this system should address requests to the Headquarters Air Force Security Forces Center, 1517 Billy Mitchell Boulevard, Lackland Air Force Base, Texas 78236-0119.

When requesting information in writing, individual should include full name, Social Security Number (SSN), military status, and home address. For a personal visit, individual must have a military ID, if applicable, a valid driver's license, or other appropriate proof of identity.”

* * * * *

F031 AF SF C

SYSTEM NAME:

Complaint/Incident Reports.

SYSTEM LOCATION:

Kept by the Chief of Security Forces at the installation where an individual becomes involved in an incident or complaint and by the Chief of Security Forces at the installation where an individual is assigned if the incident occurs at a different location.

Information copies of a report are kept at the individual's organization and other organizations which have an interest in a particular incident. Official mailing addresses are published as an appendix to the Air Force's compilation of record systems notices.

CATEGORIES OF INDIVIDUALS COVERED BY THE SYSTEM:

Persons who become involved in complaints or incidents on Air Force installations or Air Force active duty personnel who become involved in incidents regardless of the location.

CATEGORIES OF RECORDS IN THE SYSTEM:

Includes the incident or complaint report, statements by the subject or witness which includes their name, Social Security Number (SSN), status/grade, date and place of birth, local and permanent address, home phone, and their sponsor's name and Social Security Number (SSN); information on seized or acquired property, if applicable, copies of forms referring cases to other agencies for final disposition, and other forms or reports required to complete basic report. Also includes an individual incident reference record.

AUTHORITY FOR MAINTENANCE OF THE SYSTEM:

10 U.S.C. 8013, Secretary of the Air Force and Air Force Manual 31-201, Volume 7, Security Forces Administration and Reports.

PURPOSE(S):

Used to record information on individual involvement in incidents or criminal activity. Reports are used to provide information to the appropriate individual within an organization who ensures corrective action is taken.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD ‘Blanket Routine Uses’ published at the beginning of the Air Force's compilation of systems of records notices apply to this system.

POLICIES AND PRACTICES FOR STORING, RETRIEVING, ACCESSING, RETAINING, AND DISPOSING OF RECORDS IN THE SYSTEM:

STORAGE:

Maintained in file folders and card files.

RETRIEVABILITY:

Retrieved by name.

SAFEGUARDS:

Records are accessed by person(s) responsible for servicing the record system in performance of their official duties. Records are accessed by authorized personnel who are properly screened and cleared for need-to-know. Records are stored in security file containers/cabinets. Records are stored in locked cabinets or rooms.

RETENTION AND DISPOSAL:

Individual incident records are retained by the office of the Chief of Security Forces and destroyed three years after close of year in which last entry was made. Information copies at other activities are destroyed when no longer needed. Records are destroyed by tearing into pieces, shredding, pulping, macerating or burning.

SYSTEM MANAGER(S) AND ADDRESS:

Headquarters, Air Force Security Forces Center, 1517 Billy Mitchell Boulevard, Lackland Air Force Base, Texas 78236-0119.

NOTIFICATION PROCEDURE:

Individuals seeking to determine whether this system of records contains information on themselves should address inquiries to the Headquarters Air Force Security Forces Center, 1517 Billy Mitchell Boulevard, Lackland Air Force Base, Texas 78236-0119.

When requesting information in writing, individual should include full name, Social Security Number (SSN), military status, and home address. For a personal visit, individual must have a military ID, if applicable, a valid driver's license, or other appropriate proof of identity.

RECORD ACCESS PROCEDURES:

Individuals seeking to access records about themselves contained in this system should address requests to the Headquarters Air Force Security Forces Center, 1517 Billy Mitchell Boulevard, Lackland Air Force Base, Texas 78236-0119.

When requesting information in writing, individual should include full name, Social Security Number (SSN), military status, and home address. For a personal visit, individual must have a military ID, if applicable, a valid driver's license, or other appropriate proof of identity.

CONTESTING RECORD PROCEDURES:

The Air Force rules for accessing records, and for contesting contents and appealing initial determinations are published in Air Force Instruction 37-132; 32 CFR part 806b; or may be obtained from the system manager.

RECORD SOURCE CATEGORIES:

Information obtained from police and investigating officers, witnesses and from persons registering complaints or who become victims of a crime.

EXEMPTIONS CLAIMED FOR THE SYSTEM:

None.

F031 AF SP D

SYSTEM NAME:

Field Interview Card (June 11, 1997, 62 FR 31793).

CHANGES:

Change System ID to “F031 AF SF D.”

* * * * *

AUTHORITY FOR MAINTENANCE OF THE SYSTEM:

Delete entry and replace with “10 U.S.C. 8013, Secretary of the Air Force and Air Force Manual 31-201, Volume 7, Security Forces Administration and Reports.”

* * * * *

SYSTEM MANAGER(S) AND ADDRESS:

Delete entry and replace with “Headquarters, Air Force Security Forces Center, 1517 Billy Mitchell Boulevard, Lackland Air Force Base, Texas 78236-0119.”

* * * * *

F031 AF SF D

SYSTEM NAME:

Field Interview Card.

SYSTEM LOCATION:

Air Force installations.

CATEGORIES OF INDIVIDUALS COVERED BY THE SYSTEM:

Active duty military personnel and civilian employees, Air Force Reserve personnel, dependents of military personnel, and civilians not affiliated with DoD.

CATEGORIES OF RECORDS IN THE SYSTEM:

Field interview card which contains name, address, telephone number, physical description, age, date of birth, description of clothing worn, if an automobile is involved, the make, year, decal number license and style and color.

AUTHORITY FOR MAINTENANCE OF THE SYSTEM:

10 U.S.C. 8013, Secretary of the Air Force and Air Force Manual 31-201, Volume 7, Security Forces Administration and Reports.

PURPOSE(S):

Purpose of system is to obtain and record information on the presence of individuals in a given location at specific time and date.

Information is used by the Chief of Security Police and Security Police investigators at base level as an investigative tool in the identification of crime suspects and witnesses.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD “Blanket Routine Uses” published at the beginning of the Air Force's compilation of systems of records notices apply to this system.

POLICIES AND PRACTICES FOR STORING, RETRIEVING, ACCESSING, RETAINING, AND DISPOSING OF RECORDS IN THE SYSTEM:

STORAGE:

Maintained in file folders.

RETRIEVABILITY:

Retrieved by name.

SAFEGUARDS:

Records are accessed by custodian of the record system and by person(s) responsible for servicing the record system in performance of their official duties that are properly screened and cleared for need-to-know. Records are stored in security file containers/cabinets, and locked cabinets or rooms and are controlled by personnel screening.

RETENTION AND DISPOSAL:

Retained in office files for three months after monthly cut-off, and then destroyed by tearing into pieces, shredding, pulping, macerating, or burning.

SYSTEM MANAGER(S) AND ADDRESS:

Headquarters, Air Force Security Forces Center, 1517 Billy Mitchell Boulevard, Lackland Air Force Base, Texas 78236-0119.

NOTIFICATION PROCEDURE:

Individuals seeking to determine whether information about themselves is contained in this system should address written inquiries to or visit the Chief of Security Police at base concerned.

Required information from individual will be name and address. Requester may visit the office of the Chief of Security Police at base concerned and must provide a current military identification card, or civilian identification card or driver's license.

RECORD ACCESS PROCEDURES:

Individuals seeking access to information about themselves contained in this system should address written inquiries to or visit the Chief of Security Police at the base concerned.

Required information from individual will be name and address. Requester may visit the office of the Chief of Security Police at base concerned and must provide a current military identification card, or civilian identification card or driver's license.

CONTESTING RECORD PROCEDURES:

The Air Force rules for accessing records, and for contesting contents and appealing initial agency determinations are published in Air Force Instruction 37-132; 32 CFR part 806b; or may be obtained from the system manager.

RECORD SOURCE CATEGORIES:

Source of information is individual interviewed, witnesses and interviewing security policemen.

EXEMPTIONS CLAIMED FOR THE SYSTEM:

None.

F031 AF SP F

SYSTEM NAME:

Notification Letters to Persons Barred From Entry to Air Force Installations (June 11, 1997, 62 FR 31793).

CHANGES:

Change System ID to “F031 AF SF F”.

* * * * *

SYSTEM LOCATION:

Delete entry and replace with “Chief of Security Forces at the installation where an individual is barred entry. Official mailing addresses are published as an appendix to the Air Force's compilation of systems of records notices.”

* * * * *

AUTHORITY FOR MAINTENANCE OF THE SYSTEM:

Delete entry and replace with “10 U.S.C. 8013, Secretary of the Air Force and Air Force Manual 31-201, Volume 7, Security Forces Administration and Reports.”

* * * * *

STORAGE:

Delete entry and replace with “Maintained in file folders/cabinets and/or electronic storage media.''

* * * * *

SYSTEM MANAGER(S) AND ADDRESS:

Delete entry and replace with “Headquarters Air Force Security Forces Center, 1517 Billy Mitchell Boulevard, Lackland Air Force Base, Texas 78236-0119.”

* * * * *

F031 AF SF F

SYSTEM NAME:

Notification Letters to Persons Barred From Entry to Air Force Installations.

SYSTEM LOCATION:

Chief of Security Forces at the installation where an individual is barred entry. Official mailing addresses are published as an appendix to the Air Force's compilation of systems of records notices.

CATEGORIES OF INDIVIDUALS COVERED BY THE SYSTEM:

Persons prohibited from entering U.S. military installations for cause.

CATEGORIES OF RECORDS IN THE SYSTEM:

Copies of the letter(s) to the individuals barring them from entry to a particular installation.

AUTHORITY FOR MAINTENANCE OF THE SYSTEM:

10 U.S.C. 8013, Secretary of the Air Force and Air Force Manual 31-201, Volume 7, Security Forces Administration and Reports.

PURPOSE(S):

Record provides a list of personnel who have been barred from entry to the installation.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD “Blanket Routine Uses” published at the beginning of the Air Force's compilation of systems of records notices apply to this system.

POLICIES AND PRACTICES FOR STORING, RETRIEVING, ACCESSING, RETAINING, AND DISPOSING OF RECORDS IN THE SYSTEM:

STORAGE:

Maintained in file folders/cabinets and/or electronic storage media.

RETRIEVABILITY:

Retrieved by name.

SAFEGUARDS:

Records are accessed by person(s) responsible for servicing the record system in performance of their official duties and are properly screened and cleared for need-to-know. Records are stored in locked cabinets or rooms and protected by guards.

RETENTION AND DISPOSAL:

Retained for three years after removal from barred list; then destroyed by tearing into pieces, shredding, pulping, macerating or burning.

SYSTEM MANAGER(S) AND ADDRESS:

Headquarters, Air Force Security Forces Center, 1517 Billy Mitchell Boulevard, Lackland Air Force Base, Texas 78236-0119.

NOTIFICATION PROCEDURE:

Individuals seeking to determine whether information about themselves is contained in this system should address inquiries to or visit the installation Chief of Security Forces. Official mailing addresses are published as an appendix to the Air Force's compilation of systems of records notices.

Individuals should include full name, Social Security Number (SSN), and home address. During a personal visit individuals must provide a valid driver's license or other appropriate proof of identity.

RECORD ACCESS PROCEDURES:

Individuals seeking access to information about themselves contained in this system should address written inquiries to or visit the installation Chief of Security Forces. Official mailing addresses are published as an appendix to the Air Force's compilation of systems of records notices.

Individuals should include full name, Social Security Number (SSN), and home address. During a personal visit individuals must provide a valid driver's license or other appropriate proof of identity.

CONTESTING RECORD PROCEDURES:

The Air Force rules for accessing records, and for contesting contents and appealing initial agency determinations are published in Air Force Instruction 37-132; 32 CFR part 806b; or may be obtained from the system manager.

RECORD SOURCE CATEGORIES:

Information obtained from police and investigating officers.

EXEMPTIONS CLAIMED FOR THE SYSTEM:

None

F051 AF SP G

SYSTEM NAME:

Pickup or Restriction Order (June 11, 1997, 62 FR 31793).

CHANGES:

Change System ID to “F031 AF JF G.”

* * * * *

SYSTEM LOCATION:

Delete entry and replace with “Chief of Security Forces at the installation where an individual is barred entry. Official mailing addresses are published as an appendix to the Air Force's compilation of systems of records notices.”

* * * * *

AUTHORITY FOR MAINTENANCE OF THE SYSTEM:

Delete entry and replace with “10 U.S.C. 8013, Secretary of the Air Force and Air Force Manual 31-201, Volume 7, Security Forces Administration and Reports.”

* * * * *

STORAGE:

Delete entry and replace with “Maintained in file folders/cabinets and/or electronic storage media.”

* * * * *

SYSTEM MANAGER(S) AND ADDRESS:

Delete entry and replace with “Headquarters, Air Force Security Forces Center, 1517 Billy Mitchell Boulevard, Lackland Air Force Base, Texas 78236-0119.”

NOTIFICATION PROCEDURE:

Delete entry and replace with “Individuals seeking to determine whether information about themselves is contained in this system should address written inquiries to or visit the Chief of Security Forces at the installation where the order was issued or to the member's unit commander at that installation.

Written inquiries or visitors requesting information must provide proof of identity (e.g., identification card, or driver's license).”

RECORD ACCESS PROCEDURES:

Delete entry and replace with “Individuals seeking access to information about themselves contained in this system should address written inquiries to or visit the Chief of Security Forces at the installation where the order was issued or to the member's unit commander at that installation.

Written inquiries or visitors requesting information must provide proof of identity (e.g., identification card, or driver's license).”

* * * * *

F031 AF SF G

SYSTEM NAME:

Pickup or Restriction Order.

SYSTEM LOCATION:

Chief of Security Forces at those installations where the order was issued. Official mailing addresses are published as an appendix to the Air Force's compilation of systems of records notices.

CATEGORIES OF INDIVIDUALS COVERED BY THE SYSTEM:

Any Air Force member whose actions result in the unit commander issuing a pickup or restriction order. Some examples of actions that warrant an order being issued include Absent without Leave (AWOL), suspicion of an offense, etc.

CATEGORIES OF RECORDS IN THE SYSTEM:

The record provides a complete physical description of the individual as well as his name, rank, Social Security Number, organization and date of birth. It also includes the reason for the order being issued.

AUTHORITY FOR MAINTENANCE OF THE SYSTEM:

10 U.S.C. 8013, Secretary of the Air Force and Air Force Manual 31-201, Volume 7, Security Forces Administration and Reports.

PURPOSE(S):

The purpose of the record is to document the identity of a member of the Armed Forces whose actions justify the picking up or restriction of the member by his unit commander. The record is used as a notification bulletin for the pickup or restriction by Security Forces until disposition is made by the member's unit commander.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD “Blanket Routine Uses” published at the beginning of the Air Force's compilation of systems of records notices apply to this system.

Records from this system of records may be provided to other law enforcement agencies to assist in pickup of individuals.

POLICIES AND PRACTICES FOR STORING, RETRIEVING, ACCESSING, RETAINING, AND DISPOSING OF RECORDS IN THE SYSTEM:

STORAGE:

Maintained in file folders/cabinets and/or Electronic storage media.

RETRIEVABILITY:

Retrieved by name.

SAFEGUARDS:

Records are accessed by person(s) responsible for servicing the record system in performance of their official duties. Records are stored in locked cabinets or rooms and protected by guards.

RETENTION AND DISPOSAL:

Record is retained until member is picked up or until the order is canceled by the issuing authority, at which time all copies are destroyed by tearing into pieces, shredding, pulping or burning.

SYSTEM MANAGER(S) AND ADDRESS:

Headquarters Air Force Security Forces Center, 1517 Billy Mitchell Boulevard, Lackland Air Force Base, Texas 78236-0119.

NOTIFICATION PROCEDURE:

Individuals seeking to determine whether information about themselves is contained in this system should address written inquiries to or visit the Chief of Security Forces at the installation where the order was issued or to the member's unit commander at that installation.

Written inquiries or visitors requesting information must provide proof of identity (e.g., identification card, or driver's license).

RECORD ACCESS PROCEDURES:

Individuals seeking access to information about themselves contained in this system should address written inquiries to or visit the Chief of Security Forces at the installation where the order was issued or to the member's unit commander at that installation.

Written inquiries or visitors requesting information must provide proof of identity (e.g., identification card, or driver's license).

CONTESTING RECORD PROCEDURES:

The Air Force rules for accessing records, and for contesting contents and appealing initial agency determinations are published in Air Force Instruction 37-132; 32 CFR part 806b; or may be obtained from the system manager.

RECORD SOURCE CATEGORIES:

Information obtained from police and investigating officers, from witnesses and from source documents such as reports.

EXEMPTIONS CLAIMED FOR THE SYSTEM:

None.

[FR Doc. E9-18902 Filed 8-6-09; 8:45 am]

BILLING CODE 5001-06-P